DEPARTMENT OF HOMELAND SECURITY

Coast Guard

33 CFR Part 165

[Docket Number USCG-2019-0013]

RIN 1625-AA00

Safety Zones; Coast Guard Sector Ohio Valley Annual and Recurring Safety Zones Update

AGENCY: Coast Guard, DHS.

ACTION: Notice of proposed rulemaking.

SUMMARY: The Coast Guard proposes to amend and update its list of recurring safety zone regulations that take place in the Coast Guard Sector Ohio Valley area of responsibility (AOR). This proposed action is necessary to update the current list of recurring safety zones with revisions, additional events and removal of events that no longer take place. This regulation would restrict vessel traffic from the safety zones during the events unless authorized by the Captain of the Port Sector Ohio Valley or a designated representative. We invite your comments on this proposed rulemaking.

DATES: Comments and related material must be received by the Coast Guard on or before April 11, 2019.

ADDRESSES: You may submit comments identified by docket number USCG-2019-0013 using the Federal eRulemaking Portal at http://www.regulations.gov. See the “Public Participation and Request for Comments” portion of the SUPPLEMENTARY INFORMATION section for further instructions on submitting comments.

FOR FURTHER INFORMATION CONTACT: If you have questions on this proposed rule, call or email Petty Officer Riley Jackson, Sector Ohio Valley, U.S. Coast Guard; telephone (502) 779-5347, email SECOHV-WWM@uscg.mil.

SUPPLEMENTARY INFORMATION:

I. Table of Abbreviations

CFR Code of Federal Regulations

COTP Captain of the Port Sector Ohio Valley

DHS Department of Homeland Security

E.O. Executive Order

FR Federal Register

NPRM Notice of proposed rulemaking

§ Section

U.S.C. United States Code

II. Background, Purpose, and Legal Basis

The Captain of the Port Sector Ohio Valley (COTP) proposes to amend 33 CFR 165.801, Table 1 titled “Sector Ohio Valley Annual and Recurring Safety Zones”, to update our regulations for annual fireworks displays and other recurring events in the Eighth Coast Guard District.

The Table contains a list of annual and recurring safety zones in the Sector Ohio Valley as of May 11, 2018.

These events include air shows, fireworks displays, and other marine related events requiring a limited access area restricting vessel traffic for safety purposes. The current list in 33 CFR 165.801, Table 1, requires amendment to provide new information on existing safety zones, to include new safety zones expected to recur annually or biannually, and to remove safety zones that are no longer needed. Issuing individual regulations for each new safety zone, amendment, or removal of an existing safety zone creates unnecessary administrative costs and burdens. This single proposed rulemaking will considerably reduce administrative overhead and provide the public with notice through publication in the Federal Register of the upcoming recurring safety zone regulations. Event sponsors desiring to hold an event not listed in the table for the Sector Ohio Valley area of responsibility may seek permission for a regulated area for their event through a request to the phone number or email listed in the above FOR FURTHER INFORMATION CONTACT section.

The Coast Guard encourages the public to participate in this proposed rulemaking through the comment process so that any necessary changes can be identified and implemented in a timely and efficient manner. The Coast Guard will address all public comments accordingly, whether through response, additional revision to the regulation, or otherwise.

The Coast Guard is issuing this notice of proposed rulemaking (NPRM) with a 15-day prior notice and opportunity to comment pursuant to section (b)(3) of the Administrative Procedure Act (APA) (5 U.S.C. 553). This provision authorizes an agency to publish a rule in less than 30 days before its effective date for “good cause found and published with the rule.” Under 5 U.S.C. 553(b)(3)(B), the Coast Guard finds that good cause exists for publishing this NPRM with a 15-day comment period because it is impractical to provide a 30-day comment period. These proposed regulated areas are necessary to ensure the safety of vessels and persons during the marine events. It is impracticable to publish an NPRM with a 30-day comment period because some of these updates must be established as early as the end of April 2019. A 15-day comment period would allow the Coast Guard to provide for public notice and comment, but also update the regulated areas soon enough that the length of the notice and comment period does not compromise public safety.

III. Discussion of the Proposed Rule

Part 165 of 33 CFR contains regulations establishing regulated navigation areas and limited access areas to restrict vessel traffic for the safety of persons and property. Section 165.801, Table 1, establishes recurring safety zones to restrict vessel transit into and through specified areas to protect spectators, mariners, and other persons and property from potential hazards presented during certain events taking place in Sector Ohio Valley's AOR. From time to time, this section requires amendment to properly reflect the recurring safety zones in the AOR. This proposed rule amends and updates § 165.801, Table 1 as described below.

This proposed rule adds 8 new recurring safety zones, removes 6 recurring events, and amends the dates and regulated areas for 9 recurring safety zones already listed in Section 165.801, Table 1, as follows:

This proposed rule would add the following 8 safety zones to Table 1 of Part 165.801:

Date | Sponsor/name | Sector Ohio Valley location | Safety zone
Weekend before the 4th of July | Kentucky Dam Marina/Kentucky Dam Marina Fireworks | Gilbertsville, KY | 350 foot radius, from the fireworks launch site, on the entrance jetties at Kentucky Dam Marina, on the Tennessee River at Mile Marker (MM) 23 (Kentucky).
1 day—One weekend in September | Boomtown Days—Fireworks | Nitro, WV | Kanawha River, Miles 43.1-44.2 (West Virginia).
1 day—Second or Third week of June | TriState Pottery Festival Fireworks | East Liverpool, OH | Ohio River, Miles 42.5-45.0 (Ohio).
1 day—Friday before Thanksgiving | Monongahela Holiday Show | Monongahela, PA | Ohio River, Miles 31.5-32.5 (Pennsylvania).
1 day—First two weeks in October | Yeatman's Fireworks | Cincinnati, OH | Ohio River, Miles 469.0-470.5 (Ohio).
1 day—Last week in June or First week in July | Rising Sun Fireworks | Rising Sun, IN | Ohio River, Miles 506.0-507.0 (Indiana).
3 days—One weekend in May | U.S. Rowing Southeast Youth Championship Regatta | Oak Ridge, TN | Clinch River, Miles 48.5-52 (Tennessee).
1 Day—One weekend in July | Three Rivers Regatta | Knoxville, TN | Tennessee River, Miles 642-653 (Tennessee).

This proposed rule would remove the following 6 safety zones from Table 1 of Part 165.801:

Date | Sponsor/name | Sector Ohio Valley location | Safety zone
Last Sunday in May | Friends of Ironton | Ironton, OH | Ohio River, Mile 326.7-327.7.
1 day—Second weekend in June | City of St. Albans/St. Albans Town Fair | St. Albans, WV | Kanawha River, Mile 46.3-47.3.
2 days—One weekend in August | Powerboat Nationals—Parkersburg Regatta/Parkersburg | Parkersburg, WV | Ohio River, Miles 183.5-185.5.
1 day—4th or 5th of July | City of Cape Girardeau July 4th Fireworks Show on the River | Cape Girardeau, MO | Upper Mississippi River, Mile 50.0-52.0.
1 day—A Saturday in July | Paducah Parks and Recreation Department/Cross River Swim | Paducah, KY | Ohio River, Mile 934.0-936.0.
1 day—Third or fourth of July | Harrah's Casino/Metropolis Fireworks | Metropolis, IL | Ohio River, Mile 942.0-945.0.

The Coast Guard also proposes to revise regulations in 33 CFR 165.801, Table 1, by amending 9 currently-listed safety zones. The amendments would involve changes to marine event dates and/or regulated areas, with reference by line number to the current table. The 9 safety zones being amended are listed below:

Line | Date | Sponsor/name | Sector Ohio Valley location | Safety zone | Revision (date/area)
3 | 2 days—Second or third weekend in April | Thunder Over Louisville | Louisville, KY | Ohio River, Miles 597.0-607.0 (Kentucky) | area/date.
6 | 1 day—1st or 2nd week of August | Bellaire All-American Days | Bellaire, OH | Ohio River, MMs 93.5-94.5 (Ohio) | date.
7 | 2 days—a weekend in June | Rice's Landing Riverfest | Rice's Landing, PA | Monongahela River, MMs 68.0-68.8 (Pennsylvania) | date.
9 | 1 day—one weekend before Labor Day | Riverfest/Riverfest Inc. | Nitro, WV | Kanawha River, MMs 43.1-44.2 (West Virginia). | date.
28 | 1 day—First week or weekend in July | Summer Motions Inc./Summer Motion | Ashland, KY | Ohio River, MMs 322.1-323.1 (Kentucky). | date.
31 | 1 day—First week or weekend in July | Portsmouth River Days | Portsmouth, OH | Ohio River, MMs 355.5-357.0 (Ohio). | area.
33 | 1 day—in the month of August | Pittsburgh Foundation/Bob O'Connor Cookie Cruise | Pittsburgh, PA | Ohio River, MMs 0.0-0.5 (Pennsylvania) | date.
49 | 3rd or 4th of July | City of Hickman, KY/Town of Hickman Fireworks | Hickman, KY | 700 foot radius from GPS coordinate 36°34.5035 N, 089°11.919 W, in Hickman Harbor located at MM 921.5 on the Lower Mississippi River (Kentucky) | area.
58 | 3 days—second or third week of September | Wheeling Heritage Port Sternwheel Foundation/Wheeling Heritage Port Sternwheel Festival | Wheeling, WV | Ohio River, MMs 90.2-90.7 (West Virginia) | date.

The effect of this proposed rule would be to restrict general navigation in the safety zones during these events. Vessels intending to transit the designated waterway through the safety zones will only be allowed to transit the area when COTP, or a designated representative, has deemed it safe to do so or at the completion of the events. The proposed annually recurring safety zones are necessary to provide for the safety of life on navigable waters during the events.

IV. Regulatory Analyses

We developed this proposed rule after considering numerous statutes and Executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance it is exempt from the requirements of Executive Order 13771.

This regulatory action determination is based on the size, location, and duration of the safety zones. These safety zones are limited in size and duration, and are usually positioned away from high vessel traffic areas. Moreover, the Coast Guard would issue a Broadcast Notice to Mariners via VHF-FM marine channel 16 about the zones, and the rule would allow vessels to seek permission to enter the zones. Vessel traffic would also be able to request permission from the COTP or a designated representative to enter the restricted area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit these safety zones may be small entities, for the reasons stated in section IV.A above this proposed rule would not have a significant economic impact on any vessel owner or operator. Under section 213(a) of the Small Business Regulatory Enforcement Fairness Act of 1996 (Pub. L. 104-121), we want to assist small entities in understanding this proposed rule. If the proposed rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule will not call for a new collection of information under the Paperwork Reduction Act of 1995 (44 U.S.C. 3501-3520.).

D. Federalism and Indian Tribal Governments

A rule has implications for federalism under E.O. 13132, Federalism, if it has a substantial direct effect on the States, on the relationship between the national government and the States, or on the distribution of power and responsibilities among the various levels of government. We have analyzed this rule under that Order and have determined that it is consistent with the fundamental federalism principles and preemption requirements described in E.O. 13132.

Also, this rule does not have tribal implications under E.O. 13175, Consultation and Coordination with Indian Tribal Governments, because it does not have a substantial direct effect on one or more Indian tribes, on the relationship between the Federal Government and Indian tribes, or on the distribution of power and responsibilities between the Federal Government and Indian tribes. If you believe this rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this proposed rule under Department of Homeland Security Management Directive 023-01 and Commandant Instruction M16475.lD, which guide the Coast Guard in complying with the National Environmental Policy Act of 1969 (42 U.S.C. 4321-4370f), and have made a preliminary determination that this action is one of a category of actions that do not individually or cumulatively have a significant effect on the human environment. Normally such actions are categorically excluded from further review under paragraph L61 of Appendix A, Table 1 of DHS Instruction Manual 023-01-001-01, Rev. 01 as it involves the revision of the table that informs the public of safety zones occurring in the Sector Ohio Valley AOR. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

Documents mentioned in this NPRM as being available in the docket, and all public comments, will be in our online docket at http://www.regulations.gov and can be viewed by following that website's instructions. Additionally, if you go to the online docket and sign up for email alerts, you will be notified when comments are posted or a final rule is published.

List of Subjects in 33 CFR Part 165

Harbors, Marine safety, Navigation (water), Reporting and recordkeeping requirements, Security measures, Waterways.

For the reasons discussed in the preamble, the U.S. Coast Guard proposes to amend 33 CFR part 165 as follows:

PART 165—REGULATED NAVIGATION AREAS AND LIMITED ACCESS AREAS

1. The authority citation for part 165 continues to read as follows:

Authority: 46 U.S.C. 70034; 46 U.S.C. 70051; 33 CFR 1.05-1, 6.04-1, 6.04-6, and 160.5; Department of Homeland Security Delegation No. 0170.1.

2. Revise § 165.801, Table 1 to read as follows:

Table 1 of § 165.801—Sector Ohio Valley Annual and Recurring Safety Zones
Date | Sponsor/name | Sector Ohio Valley location | Safety zone
1. 2 days—Second or third weekend in April | Thunder Over Louisville | Louisville, KY | Ohio River, Miles 597.0-607.0 (Kentucky).
2. 3 days—Third or Fourth weekend in April | Henderson Breakfast Lions Club Tri-Fest | Henderson, KY | Ohio River, Miles 802.5-805.5 (Kentucky).
3. Multiple days—April through November | Pittsburgh Pirates Season Fireworks | Pittsburgh, PA | Allegheny River, Miles 0.2-0.9 (Pennsylvania).
4. Multiple days—April through November | Cincinnati Reds Season Fireworks | Cincinnati, OH | Ohio River, Miles 470.1-470.4; extending 500 ft. from the State of Ohio shoreline (Ohio).
5. Multiple days—April through November | Pittsburgh Riverhounds Season Fireworks | Pittsburgh, PA | Monongahela River, Miles 0.22-0.77 (Pennsylvania).
6. 1 day—First week in May | Belterra Park Gaming Fireworks | Cincinnati, OH | Ohio River, Miles 460.0-462.0 (Ohio).
7. 3 days—One weekend in May | US Rowing Southeast Youth Championship Regatta | Oak Ridge, TN | Clinch River, Miles 48.5-52 (Tennessee).
8. 1 day—Saturday before Memorial Day | Venture Outdoors Festival | Pittsburgh, PA | Allegheny River, Miles 0.0-0.25; Monongahela River, Miles 0.0-0.25 (Pennsylvania).
9. 1 day—First weekend in June | Cumberland River Compact/Nashville Splash Bash | Nashville, TN | Cumberland River, Miles 189.7-192.1 (Tennessee).
10. 1 day—First or second week of August | Bellaire All-American Days | Bellaire, OH | Ohio River, Miles 93.5-94.5 (Ohio).
11. 2 days—A weekend in June | Rice's Landing Riverfest | Rice's Landing, PA | Monongahela River, Miles 68.0-68.8 (Pennsylvania).
12. 2 days—Second Friday and Saturday in June | City of Newport, KY/Italianfest | Newport, KY | Ohio River, Miles 468.6-471.0 (Kentucky and Ohio).
13. 1 day—Second or third Saturday in June, the last day of the Riverbend Festival | Friends of the Festival, Inc./Riverbend Festival Fireworks | Chattanooga, TN | Tennessee River, Miles 462.7-465.2 (Tennessee).
14. 1 day—Second or Third week of June | TriState Pottery Festival Fireworks | East Liverpool, OH | Ohio River, Miles 42.5-45.0 (Ohio).
15. 3 days—One of the last three weekends in June | Hadi Shrine/Evansville Freedom Festival Air Show | Evansville, IN | Ohio River, Miles 790.0-796.0 (Indiana).
16. 1 day—One weekend in June | West Virginia Symphony Orchestra/Symphony Sunday | Charleston, WV | Kanawha River, Miles 59.5-60.5 (West Virginia).
17. 1 day—Last weekend in June or first weekend in July | Riverview Park Independence Festival | Louisville, KY | Ohio River, Miles 617.5-620.5 (Kentucky).
18. 1 day—Last weekend in June or First weekend in July | City of Point Pleasant/Point Pleasant Sternwheel Fireworks | Point Pleasant, WV | Ohio River, Miles 265.2-266.2, Kanawha River Miles 0.0-0.5 (West Virginia).
19. 1 day—Last weekend in June or first weekend in July | City of Aurora/Aurora Firecracker Festival | Aurora, IN | Ohio River, Mile 496.7; 1400 ft. radius from the Consolidated Grain Dock located along the State of Indiana shoreline at (Indiana and Kentucky).
20. 1 day—Last week of June or first week of July | PUSH Beaver County/Beaver County Boom | Beaver, PA | Ohio River, Miles 25.2-25.6 (Pennsylvania).
21. 1 day—Last weekend in June or first week in July | Evansville Freedom Celebration/4th of July Fireworks | Evansville, IN | Ohio River, Miles 790.0-796.0 (Indiana).
22. 1 day—Last week in June or first week of July | Newburgh Fireworks Display | Newburgh, IN | Ohio River, Miles 777.3-778.3 (Indiana).
23. 1 day—Last week in June or First week in July | Rising Sun Fireworks | Rising Sun, IN | Ohio River, Miles 506.0-507.0 (Indiana).
24. 1 day—Weekend before the 4th of July | Kentucky Dam Marine/Kentucky Dam Marina Fireworks | Gilbertsville, KY | 350 foot radius, from the fireworks launch site, on the entrance jetties at Kentucky Dam Marina, on the Tennessee River at Mile Marker 23 (Kentucky).
25. 1 day—Saturday before July 4th | Town of Cumberland City/Lighting up the Cumberlands | Cumberland City, TN | Cumberland River, Miles 103.0-105.5 (Tennessee).
26. 1 day—July 3rd | Chattanooga Presents/Pops on the River | Chattanooga, TN | Tennessee River, Miles 462.7-465.2 (Tennessee).
27. 1 day—July 3rd | Randy Boyd/Independence Celebration Fireworks Display | Knoxville, TN | Tennessee River, Miles 625.0-628.0 (Tennessee).
28. 1 day—3rd or 4th of July | City of Paducah, KY | Paducah, KY | Ohio River, Miles 934.0-936.0; Tennessee River, Miles 0.0-1.0 (Kentucky).
29. 1 day—3rd or 4th of July | City of Hickman, KY/Town Of Hickman Fireworks | Hickman, KY | 700 foot radius from GPS coordinate 36°34.5035 N, 089°11.919 W, in Hickman Harbor located at mile marker 921.5 on the Lower Mississippi River (Kentucky).
30. 1 day—July 4th | City of Knoxville/Knoxville Festival on the 4th | Knoxville, TN | Tennessee River, Miles 646.3-648.7 (Tennessee).
31. 1 day—July 4th | Nashville NCVC/Independence Celebration | Nashville, TN | Cumberland River, Miles 189.7-192.3 (Tennessee).
32. 1 day—July 4th | Shoals Radio Group/Spirit of Freedom Fireworks | Florence, AL | Tennessee River, Miles 254.5-257.4 (Alabama).
33. 1 day—4th of July (Rain date—July 5th) | Monongahela Area Chamber of Commerce/Monongahela 4th of July Celebration | Monongahela, PA | Monongahela River, Milse 032.0-033.0 (Pennsylvania).
34. 1 day—July 4th | Cities of Cincinnati, OH and Newport, KY/July 4th Fireworks | Newport, KY | Ohio River, Miles 469.6-470.2 (Kentucky and Ohio).
35. 1 day—July 4th | Wellsburg 4th of July Committee/Wellsburg 4th of July Freedom Celebration | Wellsburg, WV | Ohio River, Miles 73.5-74.5 (West Virginia).
36. 1 day—week of July 4th | Wheeling Symphony fireworks | Wheeling, WV | Ohio River, Miles 90-92 (West Virginia).
37. 1 day—First week or weekend in July | Summer Motions Inc./Summer Motion | Ashland, KY | Ohio River, Miles 322.1-323.1 (Kentucky).
38. 1 day—week of July 4th | Chester Fireworks | Chester, WV | Ohio River mile 42.0-44.0 (West Virginia).
39. 1 day—First week of July | Cincinnati Symphony Orchestra | Cincinnati, OH | Ohio River, Miles 460.0-462.0 (Ohio).
40. 1 day—First weekend or week in July | Queen's Landing Fireworks | Greenup, KY | Ohio River, Miles 339.3-340.3 (West Virginia).
41. 1 day—First week or weekend in July | Gallia County Chamber of Commerce/Gallipolis River Recreation Festival | Gallipolis, OH | Ohio River, Miles 269.5-270.5 (Ohio).
42. 1 day—First week or weekend in July | Kindred Communications/Dawg Dazzle | Huntington, WV | Ohio River, Miles 307.8-308.8 (West Virginia).
43. 1 day—First week or weekend in July | Greenup City | Greenup, KY | Ohio River, Miles 335.2-336.2 (Kentucky).
44.1 day— First week or weekend in July | Middleport Community Association | Middleport, OH | Ohio River, Miles 251.5-252.5 (Ohio).
45. 1 day—First week or weekend in July | People for the Point Party in the Park | South Point, OH | Ohio River, Miles 317-318 (Ohio).
46. 1 day—One of the first two weekends in July | City of Bellevue, KY/Bellevue Beach Park Concert Fireworks | Bellevue, KY | Ohio River, Miles 468.2-469.2 (Kentucky & Ohio).
47. 1 day—Week of July 4th | EQT 4th of July Celebration | Pittsburgh, PA | Ohio River, Miles 0.0-0.5, Allegheny River, Miles 0.0-0.5, and Monongahela River, Miles 0.0-0.5 (Pennsylvania).
48. 1 day—First week or weekend in July | City of Charleston/City of Charleston Independence Day Celebration | Charleston, WV | Kanawha River, Miles 58.1-59.1 (West Virginia).
49. 1 day—First week or weekend in July | Portsmouth River Days | Portsmouth, OH | Ohio River, Miles 355.5-357.0 (Ohio).
50. 1 day—During the first week of July | Louisville Bats Baseball Club/Louisville Bats Firework Show | Louisville, KY | Ohio River, Miles 602.0-605.0 (Kentucky).
51. 1 day—During the first week of July | Waterfront Independence Festival/Louisville Orchestra Waterfront 4th | Louisville, KY | Ohio River, Miles 602.0-605.0 (Kentucky).
52. 1 day—During the first week of July | Celebration of the American Spirit Fireworks/All American 4th of July | Owensboro, KY | Ohio River, Miles 754.0-760.0 (Kentucky).
53. 1 day—During the first week of July | Riverfront Independence Festival Fireworks | New Albany, IN | Ohio River, Miles 606.5-609.6 (Indiana).
54. 1 day—Saturday before July 4th, or Saturday after July 4th | Grand Harbor Marina/Grand Harbor Marina July 4th Celebration | Counce, TN | Tennessee-Tombigbee Waterway, Miles 448.5-451.0 (Tennessee).
55. 1 day—During the first two weeks of July | City of Maysville Fireworks | Maysville, KY | Ohio River, Miles 408-409 (Kentucky).
56. 1 day—One of the first two weekends in July | Madison Regatta, Inc./Madison Regatta | Madison, IN | Ohio River, Miles 554.0-561.0 (Indiana).
57. 1 day—Third Saturday in July | Pittsburgh Irish Rowing Club/St. Brendan's Cup Currach Regatta | Pittsburgh, PA | Ohio River, Miles 7.0-9.0 (Pennsylvania).
58. 1 day—Third or fourth week in July | Upper Ohio Valley Italian Heritage Festival/Upper Ohio Valley Italian Heritage Festival Fireworks | Wheeling, WV | Ohio River, Miles 90.0-90.5 (West Virginia).
59. 1 day—Saturday Third or Fourth full week of July (Rain date—following Sunday) | Oakmont Yacht Club/Oakmont Yacht Club Fireworks | Oakmont, PA | Allegheny River, Miles 12.0-12.5 (Pennsylvania).
60. 2 days—One weekend in July | Marietta Riverfront Roar Fireworks | Marietta, OH | Ohio River, Miles 171.6-172.6 (Ohio).
61. 1 Day—One weekend in July | Three Rivers Regatta | Knoxville, TN | Tennessee River, Miles 642-653 (Tennessee).
62. 1 day—First week of August | Kittaning Folk Festival | Kittanning, PA | Allegheny River, Miles 44.0-46.0 (Pennsylvania).
63. 1 day—First week in August | Gliers Goetta Fest LLC | Newport, KY | Ohio River, Miles 469.0-471.0.
64. 1 day—Second full week of August | PA FOB Fireworks Display | Pittsburgh, PA | Allegheny River, Miles 0.8-1.0 (Pennsylvania).
65. 1 day—Second Saturday in August | Guyasuta Days Festival/Borough of Sharpsburg | Pittsburgh, PA | Allegheny River, Miles 005.5-006.0 (Pennsylvania).
66. 1 day—In the Month of August | Pittsburgh Foundation/Bob O'Connor Cookie Cruise | Pittsburgh, PA | Ohio River, Mile 0.0-0.5 (Pennsylvania).
67. 1 day—Third week of August | Beaver River Regatta Fireworks | Beaver, PA | Ohio River, Miles 25.2-25.8 (Pennsylvania).
68. 1 day—One weekend in August | Parkersburg Homecoming Festival-Fireworks | Parkersburg, WV | Ohio River, Miles 183.5-185.5 (West Virginia).
69. 1 day—One weekend in August | Ravenswood River Festival | Ravenswood, WV | Ohio River, Miles 220-221 (West Virginia).
70. 1 day—last 2 weekends in August/first week of September | Wheeling Dragon Boat Race | Wheeling, WV | Ohio River, Miles 90.4-91.5 (West Virginia).
71. Sunday, Monday, or Thursday from August through February | Pittsburgh Steelers Fireworks | Pittsburgh, PA | Allegheny River, Miles 0.0-0.25, Ohio River, Miles 0.0-0.1, Monongahela River, Miles 0.0-0.1. (Pennsylvania).
72. 1 day—one weekend before Labor Day | Riverfest/Riverfest Inc | Nitro, WV | Kanawha River, Miles 43.1-44.2 (West Virginia).
73. 2 days—Sunday before Labor Day and Labor Day | Cincinnati Bell, WEBN, and Proctor and Gamble/Riverfest | Cincinnati, OH | Ohio River, Miles 469.2-470.5 (Kentucky and Ohio) and Licking River, Miles 0.0-3.0 (Kentucky).
74. 1 day—Labor Day or first week of September | Labor Day Fireworks Show | Marmet, WV | Kanawha River, Miles 67.5-68 (West Virginia).
75. 1 day—Second weekend in September | Nashville Symphony/Concert Fireworks | Nashville, TN | Cumberland River, Miles 190.1-192.3 (Tennessee).
76. 1 day—Second weekend in September | City of Clarksville/Clarksville Riverfest | Clarksville, TN | Cumberland River, Miles 124.5-127.0 (Tennessee).
77. 3 days— Second or third week in September | Wheeling Heritage Port Sternwheel Festival Foundation/Wheeling Heritage Port Sternwheel Festival | Wheeling, WV | Ohio River, Miles 90.2-90.7 (West Virginia).
78. 1 day—One weekend in September | Boomtown Days—Fireworks | Nitro, WV | Kanawha River, Miles 43.1-44.2 (West Virginia).
79. 1 day—One weekend in September | Ohio River Sternwheel Festival Committee fireworks | Marietta, OH | Ohio River, Miles 171.5-172.5 (Ohio).
80. 1 day—One weekend in September | Tribute to the River | Point Pleasant, WV | Ohio River, Miles 264.6-265.6 (West Virginia).
81. Multiple days—September through January | University of Pittsburgh Athletic Department/University of Pittsburgh Fireworks | Pittsburgh, PA | Ohio River, Miles 0.0-0.1, Monongahela River, Miles 0.0-0.1, Allegheny River, Miles 0.0-0.25 (Pennsylvania).
82. 1 day— First week in October | Leukemia & Lymphoma Society/Light the Night | Pittsburgh, PA | Ohio River, Miles 0.0-0.4 (Pennsylvania).
83. 1 day—Second weekend of October | Leukemia and Lymphoma Society/Light the Night Walk Fireworks | Nashville, TN | Cumberland River, Miles 189.7-192.1 (Tennessee).
84. 1 day—First two weeks in October | Yeatman's Fireworks | Cincinnati, OH | Ohio River, Miles 469.0-470.5 (Ohio).
85. 1 day—Second or third weekend in October | Outdoor Chattanooga/Swim the Suck | Chattanooga, TN | Tennessee River, Miles 452.0-454.5 (Tennessee).
86. 1 day—Fourth weekend in October | Chattajack | Chattanooga, TN | Tennessee River, Miles 462.7-465.5 (Tennessee).
87. 1 day—One weekend in October | West Virginia Motor Car Festival | Charleston, WV | Kanawha River, Miles 58-59 (West Virginia).
88. 1 day—Friday before Thanksgiving | Pittsburgh Downtown Partnership/Light Up Night | Pittsburgh, PA | Allegheny River, Miles 0.0-1.0 (Pennsylvania).
89. 1 day—Friday before Thanksgiving | Kittanning Light Up Night Firework Display | Kittanning, PA | Allegheny River, Miles 44.5-45.5 (Pennsylvania).
90. 1 day—Friday before Thanksgiving | Duquesne Light/Santa Spectacular | Pittsburgh, PA | Monongahela River, Miles 0.00-0.22, Allegheny River, Miles 0.00-0.25, and Ohio River, Miles 0.0-0.3 (Pennsylvania).
91. 1 day—Friday before Thanksgiving | Monongahela Holiday Show | Monongahela, PA | Ohio River, Miles 31.5-32.5 (Pennsylvania).
92. 1 day—Friday or Saturday after Thanksgiving | Friends of the Festival/Cheer at the Pier | Chattanooga, TN | Tennessee River, Miles 462.7-465.2 (Tennessee).
93. 1 day—Third week of November | Gallipolis in Lights | Gallipolis, OH | Ohio River, Miles 269.2-270 (Ohio).
94. 1 day—December 31 | Pittsburgh Cultural Trust/Highmark First Night Pittsburgh | Pittsburgh, PA | Allegheny River, Miles 0.5-1.0 (Pennsylvania).
95. 7 days—Scheduled home games | University of Tennessee/UT Football Fireworks | Knoxville, TN | Tennessee River, Miles 645.6-648.3 (Tennessee).

Dated: March 21, 2019
M.B. Zamperini,
Captain, U.S. Coast Guard, Captain of the Port Sector Ohio Valley.

[FR Doc. 2019-05849 Filed 3-26-19; 8:45 am]

BILLING CODE 9110-04-P